DEPARTMENT OF THE INTERIOR

Bureau of Ocean Energy Management

[OMB Number 1010-0187; Docket ID: BOEM-2017-0016; MMAA104000]

Agency Information Collection Activities: OMB Control No. 1010-0187; Project Planning for Use of OCS Sand, Gravel, and Shell Resources in Construction Projects That Qualify for a Negotiated Noncompetitive Agreement

AGENCY: Bureau of Ocean Energy Management, Interior.

ACTION: 30-day notice.

SUMMARY: To comply with the Paperwork Reduction Act of 1995 (PRA), the Bureau of Ocean Energy Management (BOEM) is notifying the public that we have submitted an information collection request (ICR) to the Office of Management and Budget (OMB) for review and approval. The ICR pertains to the paperwork requirements that respondents will submit to BOEM to obtain Outer Continental Shelf (OCS) sand, gravel, and shell resources for use in shore protection, beach and coastal restoration, and other authorized projects that qualify for a negotiated noncompetitive agreement (NNA). OMB has assigned control number 1010-0187 to this information collection. This notice provides the public a second opportunity to comment on the paperwork burden of this collection.

DATES: Submit written comments by June 26, 2017.

ADDRESSES: Submit comments on this ICR to the Desk Officer for the Department of the Interior at OMB-OIRA at (202) 395-5806 (fax) or OIRA_submission@omb.eop.gov (email). Please provide a copy of your comments to the BOEM Information Collection Clearance Officer, Anna Atkinson, Bureau of Ocean Energy Management, 45600 Woodland Road, MS-BOEM DIR, Sterling, Virginia 20166 (mail) or anna.atkinson@boem.gov (email). Please reference ICR 1010-0187 in your comment and include your name and return address.

FOR FURTHER INFORMATION CONTACT: Anna Atkinson, Office of Policy, Regulations, and Analysis at anna.atkinson@boem.gov (email) or (703) 787-1025 (phone). You may review the ICR online at http://www.reginfo.gov. Follow the instructions to review Department of the Interior collections under review by OMB.

SUPPLEMENTARY INFORMATION: The following information pertains to this request:

OMB Control Number: 1010-0187.

Title: Project Planning for the Use of OCS Sand, Gravel, and Shell Resources in Construction Projects that Qualify for a Negotiated Noncompetitive Agreement.

Abstract: Under the authority delegated by the Secretary of the Interior, BOEM is authorized, pursuant to section 8(k)(2) of the OCS Lands Act (43 U.S.C. 1337(k)(2), to convey rights to OCS sand, gravel, and shell resources by NNA for use in shore protection and beach and coastal restoration, or for use in construction projects funded in whole or part by, or authorized by, the Federal Government.

Background

Since 2014, 13 projects have been processed. In order for BOEM to continue to meet the needs of local and state governments, information regarding upcoming projects must be acquired to plan for future projects and anticipated workload. Therefore, BOEM will issue calls for information about needed resources and locations from interested parties to develop and maintain a project schedule. It also includes the potential for a call in response to an emergency declaration, such as a tropical storm. This ICR has no significant changes from the 2014 OMB approved information collection.

In the event the number of requested projects exceeds the limits of the current BOEM staff and funding resources, BOEM may request the relevant states to prioritize their own projects based on several criteria including likelihood of project funding and progress of environmental work.

BOEM will use the information to determine appropriate future resource allocations, identify potential conflicts of use, develop NNAs, and meet all necessary environmental and legal requirements. BOEM will publish all ongoing projects on the Web site https://www.boem.gov/MMP-State-and-Regional-Activities/.

We will protect information from respondents considered proprietary under the Freedom of Information Act (5 U.S.C. 552) and the Department of the Interior's implementing regulations at 43 CFR part 2. No items of a sensitive nature are collected, and responses are required to obtain or retain benefits.

Frequency: Annually and on occasion.

Description of Respondents: Potential respondents comprise states, counties, localities, and tribes.

Estimated Reporting and Recordkeeping Hour Burden: We estimate that the annual reporting burden for this collection is about 200 hours, assuming an emergency declaration is made each year.

Local Government Compilation: 25 local × 1 hour/entity × 2 responses/year = 50 hours; State Compilation: 15 States × 5 hours/State × 2 responses/year = 150 hours (50 county hours + 150 State hours = 200 total burden hours).

Estimated Reporting and Recordkeeping Non-Hour Cost Burden: We have identified no non-hour paperwork cost burdens for this collection.

Public Disclosure Statement: The PRA (44 U.S.C. 3501, et seq.) provides that an agency may not conduct or sponsor a collection of information, unless it displays a currently valid OMB control number.

Comments: We invite comments concerning this information collection on:

• Whether or not the collection of information is necessary, including whether or not the information will have practical utility;

• the accuracy of the burden estimates;

• ways to enhance the quality, utility, and clarity of the information to be collected; and

• ways to minimize the burden on respondents.

As required at 5 CFR 1320.8(d), BOEM published a 60-day notice in the Federal Register on February 27, 2017 (82 FR 11941), and the comment period ended April 28, 2017. BOEM received no comments.

Public Availability of Comments: Our practice is to make comments, including names and home addresses of respondents, available for public review. Individual respondents may request that we withhold such information, which we will honor to the extent allowable by law. If you wish us to withhold this information, you must state this prominently at the beginning of your comment. However, we will make all submissions from organizations or businesses, and from individuals identifying themselves as representatives or officials of organizations or businesses, available for public inspection in their entirety.

Authorities: The authorities for this action are the OCS Lands Act, as amended (43 U.S.C. 1337(k)(2), and the Paperwork Reduction Act of 1995 (44 U.S.C. 3501 et. seq.).

Dated: May 11, 2017.
Deanna Meyer-Pietruszka,
Chief, Office of Policy, Regulations, and Analysis.

[FR Doc. 2017-10878 Filed 5-25-17; 8:45 am]

BILLING CODE 4310-MR-P